DEPARTMENT OF LABOR

Employment and Training Administration

[TA-W-59,465]

Saint Gobain Crystals, Solon, OH; Notice of Affirmative Determination Regarding Application for Reconsideration

By application dated July 7, 2006, the International Chemical Workers Union Council, Local 852C, (Union), requested administrative reconsideration of the Department's Notice of Negative Determination Regarding Eligibility to Apply for Worker Adjustment Assistance, applicable to workers and former workers of the subject firm. The Department's determination was issued on June 7, 2006. The Department's Notice of determination was published in the Federal Register on July 14, 2006 (71 FR 40160).

In the request for reconsideration, the Union alleges that the Department's initial investigation did not include all of the articles produced at the subject firm. The determination states that the subject worker group produces calcium fluoride crystals.

The petition (dated May 24, 2006) filed by the Union on behalf of workers at the subject firm states that the subject facility produces “crystals, crystal products.”

The Department has carefully reviewed the Union's request for reconsideration and has determined that the Department will conduct further investigation.

Conclusion

After careful review of the application, I conclude that the claim is of sufficient weight to justify reconsideration of the Department of Labor's prior decision. The application is, therefore, granted.

Signed at Washington, DC, this 4th day of August 2006.
Linda G. Poole,
Certifying Officer, Division of Trade Adjustment Assistance.

[FR Doc. E6-16350 Filed 10-3-06; 8:45 am]

BILLING CODE 4510-30-P